ENVIRONMENTAL PROTECTION AGENCY

[FRL-10100-01-OA]

Request for Nominations of Candidates for the National Environmental Education Advisory Council (NEEAC)

AGENCY: Environmental Protection Agency (EPA).

ACTION: Notice.

SUMMARY: The U.S. Environmental Protection Agency (EPA) or Agency Office of Public Engagement and Environmental Education is soliciting applications for environmental education professionals for consideration to serve on the National Environmental Education Advisory Council (NEEAC). There are multiple vacancies on the Advisory Council that must be filled. Additional avenues and resources may be utilized in the solicitation of applications. “In accordance with Executive Order 14035 (June 25, 2021), EPA values and welcomes opportunities to increase diversity, equity, inclusion and accessibility on its federal advisory committees. EPA's federal advisory committees have a workforce that reflects the diversity of the American people.”

DATES: Nominations should be submitted by September 19, 2022 per the instructions below.

FOR FURTHER INFORMATION CONTACT: Any member of the public wishing further information regarding this Notice and Request for Nominations may contact Mr. Javier Araujo, Designated Federal Officer (DFO), Office of Environmental Education (OEE), by telephone at (202) 441-8981 or via email at Araujo.javier@epa.gov. General information concerning the NEEAC can be found on the following website: https://www.epa.gov/education/national-environmental-education-advisory-council-neeac.

SUPPLEMENTARY INFORMATION:

Background

The National Environmental Education Act requires that the council be comprised of (11) members appointed by the Administrator of the EPA. Members represent a balance of perspectives, professional qualifications, and experience. The Act specifies that members must represent the following sectors: primary and secondary education (one of whom shall be a classroom teacher), two members; colleges and universities, two members; business and industry, two members; non-profit organizations, two members; state departments of education and natural resources, two members; and one member to represent senior Americans. Members are chosen to represent various geographic regions of the country, and the Council strives for a diverse representation. The professional backgrounds of Council members should include education, science, policy, or other appropriate disciplines. Each member of the Council shall hold office for a one (1) to three (3) year period.

Members are expected to participate in up to two (2 in person meetings per year and monthly or more virtual conference calls per year. The anticipated time commitment may be between 15 and 40 hours per month.

Positions on the National Environmental Education Advisory Council (NEEAC) are being offered without compensation. However, if selected, you will be provided with per diem as well as travel expense coverage for in person scheduled meetings.

Request for Nominations

The NEEAC staff office seeks candidates with demonstrated experience and or knowledge in any of the following environmental education issue areas: (a) Integrating environmental education into state and local education reform and improvement; (b) state, local and tribal level capacity building for environmental education: (c) cross-sector partnerships to foster environmental education; (d) leveraging resources for environmental education; (e) design and implementation of environmental education research; (f) evaluation methodology; professional development for teachers and other education professionals; and targeting under-represented audiences, including low-income, multi-cultural, senior citizens and other adults. Specific experience in environmental justice and climate change are essential.

Process and Deadline for Submitting Nominations

Any interested and qualified individuals may be considered for appointment on the National Environmental Education Advisory Council. In order to apply, the following four items should be submitted in electronic format to the Designated Federal Officer, Javier Araujo, araujo.javier@epa.gov and contain the following: (1) Contact information including name, address, phone, and an email address (2) a curriculum vitae or resume (3) Please include the specific area of expertise in environmental education and the sector or slot the applicant is applying for in the subject line of your submission (4) A one page commentary on the applicant's philosophy regarding the need for, development, implementation and or management of environmental education.

Nominations should be submitted by September 19, 2022.

Submit nominations electronically to Javier Araujo, Designated Federal Officer, National Environmental Education Advisory Council, U.S. Environmental Protection Agency, email: araujo.javier@epa.gov.

FOR FURTHER INFORMATION CONTACT: For information regarding this Request for Nominations, please contact Mr. Javier Araujo, Designated Federal Officer, araujo.javier@epa.gov, 202-441-8981, U.S. EPA, Office of Environmental Education, William Jefferson Clinton North Room 1426, 1200 Pennsylvania Avenue NW, Washington, DC 20460.

General Information concerning NEEAC can be found on the EPA website at: https://www.epa.gov/education/national-environmental-education-advisory-council-neeac.

The short list candidates will be required to fill out the Confidential Disclosure Form for Special Government Employees serving Federal Advisory Committees at the U.S. Environmental Protection Agency. (EPA form 3110-48). This confidential form allows government officials to determine whether there is a statutory conflict between that person's public responsibilities (which include membership on a Federal Advisory Committee) and private interests and activities and the appearance of a lack of impartiality as defined by Federal regulation. The form may be viewed and downloaded from the following URL address: http://intranet.epa.gov/ogc/ethics/EPA3110-48ver3.pdf. Please note this form is not an application form.

Rosemary Enobakhare,
Associate Administrator, Office of Public Engagement and Environmental Education.

[FR Doc. 2022-18540 Filed 8-26-22; 8:45 am]

BILLING CODE 6560-50-P